FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 8, 2010.

A. Federal Reserve Bank of Philadelphia (Michael E. Collins, Senior Vice President) 100 North 6th Street, Philadelphia, Pennsylvania 19105-1521:

1. Warburg Pincus Private Equity X, L.P.; Warburg Pincus X Partners, L.P.; Warburg Pincus X L.P.; Warburg Pincus & Co.; Warburg Pincus Partners, LLC Warburg Pincus X, LLC and Warburg Pincus LLC, all of New York, New York; to acquire voting shares of National Penn Bancshares, Inc., and thereby indirectly acquire voting shares of National Penn Bank, both of Boyertown, Pennsylvania, and The Christiana Bank and Trust Company, Greenville, Delaware.

B. Federal Reserve Bank of St. Louis (Glenda Wilson, Community Affairs Officer) P.O. Box 442, St. Louis, Missouri 63166-2034:

1. The House Family Control Group (which consists of Verlene H. House Revocable Trust, Verlene H. House as trustee; White River Bituminous, Inc.; Edward House; Howard House; Dianne Lamberth; Marcus Lamberth; Lauren Lamberth Patterson, all of Batesville, Arkansas; and Lance Lamberth, San Francisco, California), Batesville, Arkansas, to acquire voting shares of First Community Bancshares, Inc., and thereby indirectly acquire voting shares of First Community Bank of Batesville, both of Batesville, Arkansas.

Board of Governors of the Federal Reserve System, November 18, 2010.
Robert deV. Frierson,
Deputy Secretary of the Board.

[FR Doc. 2010-29490 Filed 11-22-10; 8:45 am]

BILLING CODE 6210-01-P